DEPARTMENT OF HEALTH AND HUMAN SERVICES

Agency for Healthcare Research and Quality

Agency Information Collection Activities: Proposed Collection: Comment Request

AGENCY: Agency for Healthcare Research and Quality, Department of Health and Human Services.

ACTION: Notice.

SUMMARY: This notice announces the intention of the Agency for Healthcare Research and Quality (AHRQ) to request that the Office of Management and Budget (OMB) approve the proposed information collection project “Voluntary Questionnaire and Data Collection Testing to Pretest Home Health Care CAHPS Questions and Methodology.” This activity is being conducted under AHRQ's generic pre-testing clearance OMB #0935-0125. In accordance with the Paperwork Reduction Act of 1995, Public Law 104-13 (44 U.S.C. § 3506(c)(2)(A)), AHRQ invites the public to comment on this proposed information collection.

DATES: Comments on this notice must be received by January 7, 2008.

ADDRESSES: Comments on this notice should be submitted electronically to both AHRQ and to OMB. Comments should be submitted to Doris Lefkowitz, Reports Clearance Officer, AHRQ at doris.lefkowitz@ahrq.hhs.gov and to AHRQ's OMB Desk Officer by fax at (202) 395-6974 (attention: AHRQ'S desk officer) or by e-mail at OIRA_submission@omb.eop.gov (attention: AHRQ's desk officer). Copies of the proposed collection plans, data collection instruments and specific details on the estimated burden can be obtained from AHRQ's Reports Clearance Officer.

FOR FURTHER INFORMATION CONTACT: Doris Lefkowitz, AHRQ, Reports Clearance Officer, (301) 427-1477.

SUPPLEMENTARY INFORMATION: The Consumer Assessment of Health Plans Survey (CAHPS) program was initiated in 1995 to develop a survey and report on consumers' perspectives on the quality of their health plans. Since that time the CAHPS program, in partnership with CMS and others, has expanded its scope and developed surveys and reports regarding patient assessments of care received from individual clinicians, group practices, in-center hemodialysis services, nursing homes and hospitals. Now, CMS has asked the CAHPS team to develop a survey to obtain the consumer's perspective on home health care and services.

One of the top priorities of the Centers for Medicare & Medicaid Services is to increase the transparency in healthcare by providing quality and cost information to the public. A critical component missing from the current measurement set for home health agencies is information from the consumer perspective on the quality of care provided. The information collection proposed here will be a field test of a preliminary instrument designed to obtain consumer assessments of home health agency care.

Methods of Collection

This field test will use a two stage sampling approach. The first stage is a convenience sample of Medicaid and/or Medicare certified Home Health Agencies (HHA) and the second stage is a probability sample of each selected HHA's eligible patients. Thirty-six HHA's across multiple states and home health agency operators will be recruited to participate. The sample of HHAs will vary by size, financial ownership and organizational type (chain or independent). AHRQ anticipates sampling an average of 138 patients per agency.

Each selected patient will be mailed the questionnaire and cover letter. To maximize response rates, follow up activities will include an additional request for participation by mail and by phone call. Individuals contacted will be assured of the confidentiality of their replies under Section 934(c) of the Public Health Service Act.

Estimated Annual Respondent Burden

The survey will be distributed to 4,968 patients with a projected completion rate of 40 percent for a total of 1,987 returned surveys. Responses are estimated at 20 minutes per survey. Therefore the estimate of total burden of the survey is 663 hours.

Exhibit 1.—Estimated Annualized Burden Hours
Form name | Number of respondents | Number of responses per respondent | Hours per response | Total burden hours
Mail survey with mail and telephone follow up | 1,987 | 1 | 20/60 | 663
Total | 1,987 | 1 | 20/60 | 663

Exhibit 2.—Estimated Annualized Cost Burden
Form name | Number of respondents | Total burden hours | Average hourly wage rate* | Total cost burden
Mail survey with mail and telephone follow up | 1,987 | 663 | $20.00 | $13,260
Total | 1,987 | 663 | 20.00 | 13,260
* Based upon the average wages, “National Compensation Survey: Occupational Wages in the United States, June 2006,” U.S. Department of Labor, Bureau of Labor Statistics. (http://www.bls.gov/ncs/home.htm. Last viewed August 27, 2007.)

Estimated Annual Costs to the Federal Government

The total cost to the Government for developing this survey is approximately $880,000. The contracted costs include approximately $600,000 for survey development, $110,000 for data collection and $90,000 for analysis of field test results. Total costs also include $80,000 in AHRQ staff costs.

Request for Comments

In accordance with the above-cited Paperwork Reduction Act legislation, comments on AHRQ's Information collection are requested with regard to any of the following: (a) Whether the proposed collection of information is necessary for the proper performance of AHRQ healthcare research and healthcare dissemination functions, including whether the information will have practical utility; (b) the accuracy of AHRQ's estimate of burden (including the hours and costs) of the proposed collection of information; (c) ways to enhance the quality, utility and clarity of the information to be collected; and (d) ways to minimize the burden of the collection of information upon the respondents including the use of automated collection techniques or other forms of information technology.

Comments submitted in response to this notice will be summarized and included in the Agency's subsequent request for OMB approval of the proposed information collection. All comments will become a matter of public record.

Dated: November 29, 2007.
Carolyn M. Clancy,
Director.

[FR Doc. 07-5949 Filed 12-5-07; 8:45 am]

BILLING CODE 4160-90-M